ENVIRONMENTAL PROTECTION AGENCY

40 CFR Parts 712 and 716

[EPA-HQ-OPPT-2005-0014 and EPA-HQ-OPPT-2005-0055; FRL-8094-8]

RIN 2070-AB08 and 2070-AB11

Preliminary Assessment Information Reporting Rule and Health and Safety Data Reporting Rule; Revision of Effective Dates

AGENCY: Environmental Protection Agency (EPA).

ACTION: Final rule; revision of effective dates.

SUMMARY: This document is revising the effective date of two rules published in the Federal Register of August 16, 2006: The Preliminary Assessment Information Reporting Rule (PAIR) and the Health and Safety Data Reporting Rule because of the relocation of the dockets for these two rules. Structural damage to the EPA Docket Center (EPA/DC) caused by flooding in June 2006 necessitated the relocation of the EPA/DC. Although the EPA/DC is continuing operations, the relocation of EPA/DC and resumption of normal operations has taken place during the period that withdrawal requests for removal of chemicals from these two rules would be arriving; therefore, EPA has decided that the effective dates for these two rules will be revised to ensure that all requests that were submitted to EPA by August 30, 2006, for withdrawal of chemicals listed in these two rules have been accounted for and addressed.

DATES: The actions in this document are effective Sepember 15, 2006.

The effective date for the PAIR rule amending 40 CFR part 712 published at 71 FR 47122, August 16, 2006, is delayed to September 29, 2006, except for the amendments to sections 712.28 and 712.30(c), which contained technical corrections.

The effective date for the Health and Safety Data Reporting rule amending 40 CFR part 716 at 71 FR 47130, August 16, 2006, is delayed to September 29, 2006, except for the amendments to sections 716.30, 716.35, 716.60, and 716.105, which contained technical corrections.

ADDRESSES: EPA has established a docket for this action under docket identification (ID) numbers EPA-HQ-OPPT-2005-0014 and EPA-HQ-OPPT-2005-0055. All documents in the docket are listed on the regulations.gov website. Although listed in the index, some information is not publicly available, e.g., Confidential Business Information (CBI) or other information whose disclosure is restricted by statute. Certain other material, such as copyrighted material, is not placed on the Internet and will be publicly available only in hard copy form. The EPA Docket Center (EPA/DC) suffered structural damage due to flooding in June 2006. Although the EPA/DC is continuing operations, there will be temporary changes to the EPA/DC during the clean-up. The EPA/DC Public Reading Room, which was temporarily closed due to flooding, has been relocated in the EPA Headquarters Library, Infoterra Room (Room Number 3334) in EPA West, located at 1301 Constitution Ave., NW., Washington, DC. The EPA/DC Public Reading Room is open from 8:30 a.m. to 4:30 p.m., Monday through Friday, excluding legal holidays. The telephone number for the EPA/DC Public Reading Room is (202) 566-1744, and the telephone number for the OPPT Docket is (202) 566-0280. EPA visitors are required to show photographic identification and sign the EPA visitor log. Visitors to the EPA/DC Public Reading Room will be provided with an EPA/DC badge that must be visible at all times while in the EPA Building and returned to the guard upon departure. In addition, security personnel will escort visitors to and from the new EPA/DC Public Reading Room location. Up-to-date information about the EPA/DC is on the EPA website at http://www.epa.gov/epahome/dockets.htm.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Joe Nash, Chemical Control Division (7405M), Office of Pollution Prevention and Toxics, Environmental Protection Agency, 1200 Pennsylvania Ave., NW., Washington, DC 20460-0001; telephone number: (202) 564-8886; fax number: (202) 564-4765; e-mail address: ccd.citb@epa.gov.

SUPPLEMENTARY INFORMATION:

I. General Information

A. Does this Action Apply to Me?

You may be potentially affected by this action if you manufacture (defined by statute to include import) any of the chemical substances listed in the August 16, 2006 PAIR rule or August 16, 2006 Health and Safety Data Reporting rule. Entities potentially affected by this action may include, but are not limited to:

• Chemical manufacturers (including importers), (NAICS codes 325, 32411), e.g., persons who manufacture (defined by statute to include import) one or more of the subject chemical substances.

This listing is not intended to be exhaustive, but rather provides a guide for readers regarding entities likely to be affected by this action. The North American Industrial Classification System (NAICS) codes have been provided to assist you and others in determining whether this action might apply to certain entities. If you have any questions regarding the applicability of this action to a particular entity, consult the technical person listed under FOR FURTHER INFORMATION CONTACT.

B. How Can I Access Electronic Copies of this Document and Other Related Information?

In addition to using the electronic docket, you may access this Federal Register document electronically through the EPA Internet under the “Federal Register” listings at http://www.epa.gov/fedrgstr. A frequently updated electronic version of 40 CFR parts 712 and 716 are available on E-CFR Beta Site Two at http://www.gpoaccess.gov/ecfr.

II. Background

A. What Action is the Agency Taking?

EPA is revising the effective dates on which certain chemicals would be subject to the reporting requirements under TSCA section 8(a) and 8(d). On August 16, 2006, EPA issued a final PAIR rule under TSCA section 8(a) (40 CFR part 712) which requires manufacturers (including importers) of chemicals in the category of voluntary HPV Challenge Program orphan (unsponsored) chemicals on the ITC's TSCA section 4(e) Priority Testing List to submit a one-time report on general production/importation volume, end use, and exposure-related information to EPA (71 FR 47122) (FRL-7764-9). Also on August 16, 2006, EPA issued a final Health and Safety Data Reporting rule under TSCA section 8(d) (40 CFR part 716) which requires manufacturers (including importers) of chemicals in this category of voluntary HPV Challenge Program orphan (unsponsored) chemicals to submit certain unpublished health and safety data to EPA (71 FR 47130) (FRL-7764-7). The effect of this revision of the rules' effective dates is that the listed chemicals will not be subject to the reporting requirements imposed by the final TSCA section 8(a) and 8(d) rules issued on August 16, 2006, until September 29, 2006.

Because of these changes in effective dates the table in paragraph (e) of § 712.30 of the final PAIR rule published in the Federal Register issue of August 16, 2006 (Ref. 1) is amended by removing “September 15, 2006” under the column heading “Effective date” and adding in its place “September 29, 2006.” The table in paragraph (e) is also amended by removing “November 14, 2006” under the column heading “Reporting date” and adding in its place “November 28, 2006.” In § 716.120 of the final Health and Safety Data Reporting rule published in the Federal Register of August 16, 2006 (Ref. 2), the table in paragraph (d) is amended by removing “September 15, 2006” under the column heading “Effective date” and adding in its place “September 29, 2006.” The table in paragraph (d) is also amended by removing “November 14, 2006” under the column heading “Sunset date” and adding in its place “November 28, 2006.”

The rules published in the Federal Register on August 16, 2006, provided manufacturers (including importers) of any of the chemicals included in the two rules the opportunity, as specified in 40 CFR 712.30(c) and 40 CFR 716.105(c), to send a written request to EPA to withdraw a chemical from these two rules. These requests for withdrawal had to provide detailed reasons why reporting required by these rules was not warranted for the chemical and the written requests had to be received by EPA on or before August 30, 2006.

All requests for withdrawal were required to be submitted to the OPPT Document Control Office which is linked to EPA/DC. Structural damage to the EPA/DC caused by flooding in June 2006 necessitated the relocation of the EPA/DC. Although the EPA/DC is continuing operations, the relocation of EPA/DC and resumption of normal operations has taken place during the period that withdrawal requests for removal of chemicals from these two rules would be arriving. Consequently, EPA has decided that the effective dates for these two rules will be revised to ensure that all requests that were submitted to EPA by August 30, 2006, for withdrawal of chemicals listed in these two rules have been accounted for and addressed.

B. What is the Agency's Authority for Taking this Action?

EPA promulgated the PAIR rule under TSCA section 8(a) (15 U.S.C. 2607(a)), and it is codified at 40 CFR part 712. The final rule issued by EPA on August 16, 2006, amended the model TSCA section 8(a) rule by adding the ITC category of certain voluntary HPV Challenge Program orphan (unsponsored) chemicals (Ref. 1). This Federal Register document announces EPA's decision, under EPA's authority under TSCA section 8(a) (15 U.S.C. 2607(a)), to revise the effective date of the amended TSCA section 8(a) rule issued by EPA on August 16, 2006 (Ref. 1).

EPA promulgated the model Health and Safety Data Reporting rule under TSCA section 8(d) (15 U.S.C. 2607(d)), and it is codified at 40 CFR part 716. The final rule issued by EPA on August 16, 2006, amended the model TSCA section 8(d) rule by adding the ITC category of certain voluntary HPV Challenge Program orphan (unsponsored) chemicals (Ref. 2). This Federal Register document announces EPA's decision, under EPA's authority under TSCA section 8(d) (15 U.S.C. 2607(d)), to revise the effective date of the amended TSCA section 8(d) rule issued by EPA on August 16, 2006 (Ref. 2).

C. Why is this Action Being Issued as a Final Rule?

As with the August 16, 2006 rules, EPA is publishing this action as a final rule without prior notice and an opportunity for comment pursuant to the procedures set forth in 40 CFR 712.30(c) and 716.105(c). EPA finds that there is ``good cause'' under the Administrative Procedure Act (APA) (5 U.S.C. 553(b)(3)(B)) to make these amendments without prior notice and comment. EPA believes notice and an opportunity for comment on this action are unnecessary.

Under the PAIR and Health and Safety Data Reporting rules, the August 16, 2006 rules adding chemicals to the lists of subject chemicals were to be effective 30 days after publication. This action revises the effective date of the August 16, 2006 rules from September 15, 2006 to September 29, 2006. EPA is not revising any other provisions of the PAIR or Health and Safety Data Reporting rules. This revision will not have any substantive effect on manufacturers subject to the rules. This revision will simply provide additional time for EPA to account for and address all requests to withdraw chemicals. In light of this, EPA does not believe comments on this action are necessary.

III. References

The official dockets for this rule are the dockets established for the TSCA section 8(a) PAIR rule (docket ID number EPA-HQ-OPPT-2005-0014) (Ref. 1) and the TSCA section 8(d) Health and Safety Data Reporting Health and Safety Data Reporting rule (docket ID number EPA-HQ-OPPT-2005-0055) (Ref. 2). These official public dockets are available for review as specified in ADDRESSES. The following is a listing of the materials referenced in this document that have been placed in the official dockets for this rule:

1. EPA. 2006. Preliminary Assessment Information Reporting; Addition of Certain Chemicals. Federal Register (71 FR 47122, August 16, 2006) (FRL-7764-9). Available on-line at: http://www.epa.gov/fedrgstr .

2. EPA. 2006. Health and Safety Data Reporting; Addition of Certain Chemicals. Federal Register (71 FR 47130, August 16, 2006) (FRL-7764-7). Available on-line at: http://www.epa.gov/fedrgstr.

IV. Statutory and Executive Order Reviews

A. Executive Order 12866: Regulatory Planning and Review

The Office of Management and Budget (OMB) has exempted actions under TSCA sections 8 (a) and (d) related to the PAIR and Health and Safety Data Reporting rules from the requirements of Executive Order 12866, entitled Regulatory Planning and Review (58 FR 51735, October 4, 1993). In addition, this rule does not impose any new requirements and will result in a burden and cost reduction; therefore it is not subject to OMB review under the Executive Order.

B. Paperwork Reduction Act

The information collection requirements contained in TSCA sections 8(a) PAIR and 8(d) Health and Safety Data Reporting rules have already been approved by OMB under the provisions of the Paperwork Reduction Act (PRA), 44 U.S.C. 3501 et seq., and OMB control numbers 2070-0054 (EPA ICR No. 0586) and 2070-0004 (EPA ICR No. 0575). The collection activities in this final rule are captured by the existing approval and do not require additional review and/or approval by OMB.

C. Regulatory Flexibility Act

Because this final rule eliminates reporting requirements, the Agency certifies pursuant to section 605(b) of the Regulatory Flexibility Act (RFA), 5 U.S.C. 601 et seq., that this revocation of certain requirements under TSCA sections 8(a) and 8(d) will not have a significant adverse economic impact on a substantial number of small entities.

D. Unfunded Mandates Reform Act

Pursuant to Title II of the Unfunded Mandates Reform Act of 1995 (UMRA), Public Law 104-4, EPA has determined that this rule does not contain a Federal mandate that may result in expenditures of $100 million or more for State, local, and tribal governments, in the aggregate, or the private sector in any 1 year. In addition, EPA has determined that this rule will not significantly or uniquely affect small governments. Accordingly, the rule is not subject to the requirements of UMRA sections 202, 203, 204, or 205.

E. Executive Order 13132: Federalism

This rule has no Federalism implications, because it will not have substantial direct effects on States, on the relationship between the national government and the States, or on the distribution of power and responsibilities among the various levels of government, as specified in Executive Order 13132, entitled Federalism (64 FR 43255, August 10, 1999).

F. Executive Order 13175: Consultation and Coordination with Indian Tribal Governments

This rule has no tribal implications because it will not have substantial direct effects on one or more Indian tribes, on the relationship between the Federal Government and Indian tribes, nor on the distribution of power and responsibilities between the Federal Government and Indian tribes as specified in Executive Order 13175, entitled Consultation and Coordination with Indian Tribal Governments (59 FR 22951, November 6, 2000).

G. Executive Order 13045: Protection of Children from Environmental Health Risks and Safety Risks

Executive Order 13045, entitled Protection of Children from Environmental Health Risks and Safety Risks (62 FR 19885, April 23,1997), does not apply to this rule because this is not an “economically significant” regulatory action as defined under Executive Order 12866, and it does not concern an environmental health or safety risk that may have a disproportionate effect on children.

H. Executive Order 13211: Actions that Significantly Affect Energy Supply, Distribution, or Use

This rule is not subject to Executive Order 13211, entitled Actions that Significantly Affect Energy Supply, Distribution, or Use (66 FR 28355, May 22, 2001), because this action is not expected to affect energy supply, distribution, or use.

I. National Technology Transfer and Advancement Act

Because this action does not involve any technical standards, section 12(d) of the National Technology Transfer and Advancement Act of 1995 (NTTAA), Public Law 104-113, section 12(d) (15 U.S.C. 272 note), does not apply to this action.

J. Executive Order 12898

This action does not involve special considerations of environmental justice-related issues pursuant to Executive Order 12898, entitled Federal Actions to Address Environmental Justice in Minority Populations and Low-Income Populations (59 FR 7629, February 16, 1994).

V. Congressional Review Act

The Congressional Review Act, 5 U.S.C. 801 et seq., as added by the Small Business Regulatory Enforcement Fairness Act of 1996, generally provides that before a rule may take effect, the Agency promulgating the rule must submit a rule report, which includes a copy of the rule, to each House of the Congress and the Comptroller General of the United States. EPA will submit a report containing this rule and other required information to the U.S. Senate, the U.S. House of Representatives, and the Comptroller General of the United States prior to publication of the rule in the Federal Register. This rule is not a “major rule” as defined by 5 U.S.C. 804(2).

List of Subjects in 40 CFR Parts 712 and 716

Environmental protection, Chemicals, Hazardous substances, Health and safety, Reporting and recordkeeping requirements.

Dated: September 12, 2006.
Charles M. Auer,
Director, Office of Pollution Prevention and Toxics.

Under EPA's authority, TSCA sections 8(a) and 8(d), the documents published on August 16, 2006, amending 40 CFR part 712 (71 FR 47122) and 40 CFR part 716 (71 FR 47130) are corrected as follows:

PARTS 712 and 716—[CORRECTED]

§ 712.30 [Corrected]

1. Beginning at 71 FR 47126, in § 712.30, in the table in paragraph (e), under the column heading, “Effective date,” remove “September 15, 2006” each time it appears and insert “September 29, 2006” in its place.

2. Beginning at 71 FR 47126, in § 712.30, in the table in paragraph (e), under the column heading, “Reporting date,” remove “November 14, 2006” each time it appears and insert “November 28, 2006” in its place.

§ 716.120 [Corrected]

3. Beginning at 71 FR 47136, in § 716.120, in the table in paragraph (d), under the column heading, “Effective date,” remove “September 15, 2006” each time it appears and insert “September 29, 2006” in its place.

4. Beginning at 71 FR 47136, in § 716.120, in the table in paragraph (d), under the column heading, “Sunset date,” remove “November 14, 2006” each time it appears and insert “November 28, 2006” in its place.

[FR Doc. E6-15358 Filed 9-14-06; 8:45 am]

BILLING CODE 6560-50-S